DEPARTMENT OF AGRICULTURE

Forest Service

Tongass Forest Plan Revision Supplemental Environmental Impact Statement

AGENCY: Forest Service, USDA.

ACTION: Notice of intent to supplement an environmental impact statement.

SUMMARY: The Department of Agriculture, Forest Service, will prepare a supplemental environmental impact statement (SEIS) that evaluates and considers roadless areas within the Tongass National Forest for recommendations as potential wilderness areas. The Record of Decision will disclose the Regional Forester's decision of whether to recommend lands on the Tongass National Forest for inclusion in the National Wilderness Preservation System. Those recommendations will receive further review and possible modification by the Chief of the Forest Service and the Secretary of Agriculture. The Congress has reserved the authority to make final decisions on wilderness designations.

DATES: A public mailing that outlines the project timeline and public involvement opportunities is planned for distribution in September 2001. The Draft SEIS is expected in January 2002 and will begin a 9-day public comment period. Public meetings will be scheduled during the 90-day comment period. The Final SEIS and Record of Decision are expected during the Summer of 2002.

ADDRESSES: Please send written correspondence to: Forest Supervisor, Tongass National Forest, Attn: Forest Plan SEIS, 648 Mission Street, Ketchikan, AK 99901.

FOR FURTHER INFORMATION CONTACT: Questions about the SEIS should be directed to Larry Lunde, SEIS Team Leader, 648 Mission Street, Ketchikan, AK 99901. (Telephone 907-228-6303 or e-mail llunde@fs.fed.us)

SUPPLEMENTARY INFORMATION: In Sierra Club v. Lyons (J00-0009), the U.S. District Court, District of Alaska ordered the Tongass National Forest to prepare a supplemental environmental impact statement that evaluates and considers roadless areas within the Tongass for recommendation as potential wilderness areas. The Court found that the Forest Service had violated the National Forest Management Act (NFMA) and the National Environmental Policy Act (NEPA) in the Forest Plan Revision by failing to consider any alternatives with new wilderness recommendations in the Revision Final EIS. The Forest Service will provide the relative contribution to the National Wilderness System in its analysis of the management situation, also included in the Court's order.

The Tongass Forest Plan Revision examined 110 inventoried roadless areas for potential wilderness recommendations. Each of the roadless areas was analyzed and results were recorded in Appendix C of the Analysis of the Management Situation (AMS). The SEIS will update Appendix C of the AMS and the Forest Plan Roadless Inventory Map to reflect current conditions. The 1997 Tongass Forest Plan will be used as a baseline for land allocation and to reflect the No Action alternative. A range of alternatives relative to wilderness recommendations for all roadless areas on the Tongass National Forest will be developed.

Opportunities for the public to participate in the development of the SEIS will be provided throughout the process. The Forest Service will use a combination of methods to engage and involve the public throughout the development of the SEIS. Methods include public mailings, establishment of an internet webpage specific for the SEIS, public meetings and the news media. The SEIS team will also use information from previous public input efforts related to wilderness and management of roadless areas on the Tongass National Forest. These include public comments on the 1997 Forest Plan Revision Draft EIS documents, as well as, public input on the 2001 National Roadless Area Conservation Rule and the National Forest Transportation Rule and Policy documents specific to the Tongass National Forest. The comment period on the Draft SEIS will be a minimum of 90 days from the date the Environmental Protection Agency (EPA) publishes the notice of availability in the Federal Register. A series of public meetings will be held during the 90-day public comment period. The Draft SEIS is projected to be filed with the EPA in January 2002.

The Forest Service believes, at this early stage, it is important to give reviewers notice of several court rulings related to public participation in the environmental review process. First, reviewers of draft environmental impact statements must structure their participation in the environmental review of the proposal so that it is meaningful and alerts an agency to the reviewer's position and contentions. Vermont Yankee Nuclear Power Corp. v. NEDC, 435 U.S. 519, 553, (1978). Environmental objections that could have been raised at the draft environmental impact statement stage may be waived or dismissed by the courts. City of Angoon v. Hodel, 803 F.2nd 1016, 1022 (9th Cir. 1986) and Wisconsin Heritages, Inc. v. Harris, 490 F. Supp. 1334, 1338 (E.D. Wis. 1980). Because of these court rulings, it is very important that those interested in this proposed action participate by the close of the 90-day comment period so that substantive comments and objections are made available to the Forest Service at a time when it can meaningfully consider them and respond to them in the final supplemental environmental impact statement.

To assist the Forest Service in identifying and considering issues and concerns of the proposed action, comments during scoping and comments on the draft supplemental environmental impact statement should be as specific as possible. It is also helpful if comments refer to specific pages or chapters of the draft statement. Comments may also address the adequacy of the draft supplemental environmental impact statement or the merits of the alternatives formulated and discussed in the statement. Reviewers may wish to refer to the Council on Environmental Quality Regulations for implementing the procedural provisions of the National Environmental Policy Act at 40 CFR 1503.3 in addressing these points. Comments received in response to this solicitation, including names and addresses of those who comment, will be considered part of the public record on this proposed action and will be available for public inspection. Comments submitted anonymously will be accepted and considered; however, those who submit anonymous comments will not have standing to appeal the subsequent decision under 36 CFR parts 215 or 217. Additionally, pursuant to 7 CFR 1.27(d), any person may request the agency to withhold a submission from the public record by showing how the Freedom of Information Act (FOIA) permits such confidentiality. Requesters should be aware that, under FOIA, confidentiality may be granted in only very limited circumstances, such as to protect trade secrets. The Forest Service will inform the requester of the agency's decision regarding the request for confidentiality, and where the request is denied, the agency will return the submission and notify the requester that the comments may be resubmitted with or without name and address within 7 days.

No permits are required for preparation of this SEIS.

The Regional Forester, Alaska Region of the Forest Service, Juneau, Alaska is the responsible official. The responsible official will consider the comments, response, disclosure of environmental consequences, and applicable laws, regulations, and policies in making the decision and stating the rationale in the Record of Decision.

Dated: September 14, 2001.
Beth Giron Pendleton,
Acting Deputy Regional Forester for Natural Resources.

[FR Doc. 01-24267 Filed 9-27-01; 8:45 am]

BILLING CODE 3410-11-M